DEPARTMENT OF TRANSPORTATION

Federal Aviation Administration

[Docket No. FAA-2025-2048]

Agency Information Collection Activities: Requests for Comments; Clearance of a Renewed Approval of Information Collection: Certification: Mechanics, Repairman, Parachute Riggers

AGENCY: Federal Aviation Administration (FAA), DOT.

ACTION: Notice and request for comments.

SUMMARY: In accordance with the Paperwork Reduction Act of 1995, FAA invites public comments about our intention to request the Office of Management and Budget (OMB) approval to renew an information collection. The collection involves information from applicants requesting or holding an FAA mechanic, repairman, or parachute rigger certificate, or a mechanic inspection authorization (IA). The information to be collected will be used to determine applicant eligibility for certification or authorization.

DATES: Written comments should be submitted by December 1, 2025.

ADDRESSES: Please send written comments:

By Electronic Docket: www.regulations.gov (Enter docket number into search field).

By email: Tanya Glines, Tanya.glines@faa.gov.

FOR FURTHER INFORMATION CONTACT: Tanya Glines by email at: Tanya.glines@faa.gov; phone: 202-380-5896.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0022.

Title: Certification: Mechanics, Repairman, Parachute Riggers.

Form Numbers: FAA Form 8610-1, FAA Form 8610-2, FAA Form 8610-3, FAA Form 8610-6.

Type of Review: Renewal of an information collection.

Background: 14 CFR part 65 prescribes, among other things, rules governing the issuance of certificates and associated ratings for mechanics, repairmen, parachute riggers, and the issuance and renewal of a mechanic certificate IA. The information is submitted by applicants on FAA Form 8610-1 for mechanic IA application or renewal, FAA Form 8610-2 for mechanic and parachute rigger certificates, and FAA Form 8610-3 for repairmen certificates. The information collected at the time of application is used by the FAA to determine the individuals have the appropriate knowledge and skill to exercise the privileges of the certificate, rating, and authorization requested, to ensure aircraft are airworthy for operation in the national airspace. Applicants who fail a required certification test and who choose to test within 30 days of that test failure must present a signed statement to the FAA certifying that the applicant has received additional instruction in each failed subject.

IA refresher course training providers develop training and request FAA acceptance of training courses using FAA Form 8610-6. These courses provide IA holders with refresher training to be eligible for IA renewal. Light-sport repairman training course providers develop training and request FAA acceptance of the training course. These courses provide light-sport repairman applicants with training to be eligible for a light-sport repairman certificate with an inspection or maintenance rating. IA and light-sport repairmen training courses require FAA acceptance to ensure that certificate holder and applicant training provides the appropriate knowledge and skill to exercises the privileges of the certificate, rating, and authorization, to ensure aircraft are airworthy for operation.

Parachute riggers must maintain records of the packing, maintenance, and alteration of parachutes performed or supervised by the parachute rigger. These records are used to ensure that parachutes are properly maintained and are safe for use.

Respondents: Approximately 30,000 mechanic, parachute rigger, and repairmen certificate holders, applicants, and training course providers.

Frequency: On occasion.

Estimated Average Burden per Response: 20 minutes.

Estimated Total Annual Burden: Approximately 40,000 hours.

Issued in Washington, DC, on September 26, 2025.
Tanya A. Glines,
Aviation Safety Inspector, Office of Safety Standards, Aircraft Maintenance Division, Airman Section.

[FR Doc. 2025-19051 Filed 9-29-25; 8:45 am]

BILLING CODE 4910-13-P